INTERNATIONAL TRADE COMMISSION

[Investigation No. 337-TA-554]

In the Matter of Certain Axle Bearing Assemblies, Components Thereof, and Products Containing the Same; Notice of a Commission Determination Not To Review an Initial Determination Amending the Complaint and Notice of Investigation

AGENCY: U.S. International Trade Commission.

ACTION: Notice.

SUMMARY: Notice is hereby given that the U.S. International Trade Commission has determined not to review an initial determination (“ID”) of the presiding administrative law judge (“ALJ”) granting the motion of complainant and respondents to amend the complaint and notice of investigation.

FOR FURTHER INFORMATION CONTACT: Michael K. Haldenstein, Esq., Office of the General Counsel, U.S. International Trade Commission, 500 E Street, SW., Washington, DC 20436, telephone (202) 205-3041. Copies of the public version of the ALJ's ID and all other nonconfidential documents filed in connection with this investigation are or will be available for inspection during official business hours (8:45 a.m. to 5:15 p.m.) in the Office of the Secretary, U.S. International Trade Commission, 500 E Street, SW., Washington, DC 20436, telephone 202-205-2000.

General information concerning the Commission may also be obtained by accessing its Internet server (http://www.usitc.gov). The public record for this investigation may be viewed on the Commission's electronic docket (EDIS-ON-LINE) at http://edis.usitc.gov. Hearing-impaired persons are advised that information on this matter can be obtained by contacting the Commission's TDD terminal on 202-205-1810.

SUPPLEMENTARY INFORMATION: The Commission instituted this investigation on November 28, 2005, based on a complaint filed pursuant to section 337 of the Tariff Act of 1930, as amended, 19 U.S.C. 337, by NTN Corporation of Osaka, Japan. 70 FR 71330 (Nov. 28, 2005). The complaint, as supplemented, alleged violations of section 337 in the importation into the United States, the sale for importation, and the sale within the United States after importation of certain axle bearing assemblies, components thereof, and products containing the same by reason of infringement of at least claim 1 of U.S. Patent No. 5,620,263. The complaint further alleged that an industry in the United States exists as required by subsection (a)(2) of section 337. The complainant requested that the Commission issue a limited exclusion order and a cease and desist order. The Commission named ILJIN Bearing of Gyeongju City, Kyungbuk, Korea and ILJIN USA of Novi, Michigan as respondents in the investigation. 70 FR at 71331. The ALJ set December 28, 2006, as the target date for completion of the investigation. Order No. 3 (Dec. 5, 2005).

The ALJ issued the subject ID on December 21, 2005. The ID granted the December 15, 2005, joint motion of complainant and respondents to replace respondent ILJIN Bearing with ILJIN Global. Respondent ILJIN Bearing informed complainant that ILJIN Global is the company that actually exports the accused products to the United States. The parties therefore agreed that ILJIN Global and not ILJIN Bearing is the proper respondent in this investigation. The ALJ found that “good cause” exists to permit this amendment to the complaint and notice of investigation because the information concerning ILJIN Global was obtained by complainant after the complaint was filed. The Commission investigative attorney supported the joint motion. No petitions for review of the ID were filed.

This action is taken under the authority of section 337 of the Tariff Act of 1930, as amended, 19 U.S.C. 1337, and Commission rule 210.42, 19 CFR 210.42.

By order of the Commission.
Issued: January 13, 2006.
Marilyn R. Abbott,
Secretary to the Commission.

[FR Doc. E6-682 Filed 1-20-06; 8:45 am]

BILLING CODE 7020-02-P